FEDERAL EMERGENCY MANAGEMENT AGENCY

44 CFR Chapter I and Part 295

RIN 3067-AD12

Disaster Assistance: Cerro Grande Fire Assistance

AGENCY: Federal Emergency Management Agency (FEMA).

ACTION: Correction of interim final rule.

SUMMARY: This document corrects the interim final rule published on Monday, August 28, 2000 (65 FR 52260). The rule sets out procedures for applicants to obtain assistance for injuries and property damage resulting from the Cerro Grande fire.

EFFECTIVE DATE: August 28, 2000.

FOR FURTHER INFORMATION CONTACT: Nathan Bergerbest, Office of the General Counsel, Federal Emergency Management Agency, 500 C Street SW., Washington, DC 20472, (202) 646-2685, (telefax) (202) 646-4536, or (email) Nathan.Bergerbest@fema.gov.

SUPPLEMENTARY INFORMATION: The Federal Emergency Management Agency published an interim final rule on August 28, 2000 that sets out procedures for applicants to obtain assistance for injuries and property damage resulting from the Cerro Grande fire in New Mexico in May 2000. As published the final rule includes an erroneous date that can be misleading to applicants.

Accordingly, the final rule published as FR Doc. 00-21926 on August 28, 2000, 65 FR 52260 through 52279, is corrected as follows:

On page 52260, in the third column, last paragraph, the date October 2, 2000 is corrected to read October 27, 2000.

Dated: August 30, 2000.
Ernest B. Abbott,
General Counsel.

[FR Doc. 00-22803 Filed 9-5-00; 8:45 am]

BILLING CODE 6718-01-P